COUNCIL ON ENVIRONMENTAL QUALITY

Implementation of the National Environmental Policy Act Guidance

AGENCY: Council on Environmental Quality.

ACTION: Notice of availability.

SUMMARY: On September 29, 2025, the Council on Environmental Quality (CEQ) issued a memorandum to the heads of Federal departments and agencies (agencies) to assist agencies with compliance with the National Environmental Policy Act (NEPA) and with establishing or revising agency NEPA implementing procedures. This guidance updates and replaces initial guidance issued on February 19, 2025.

DATES: This guidance was issued on September 29, 2025.

FOR FURTHER INFORMATION CONTACT: Jomar Maldonado, Director for NEPA, 202-395-5750, Jomar.MaldonadoVazquez@ceq.eop.gov. The guidance is available for viewing online at www.nepa.gov.

SUPPLEMENTARY INFORMATION: On September 29, 2025, CEQ issued a memorandum entitled Implementation of the National Environmental Policy Act to provide guidance to Federal agencies regarding implementation of NEPA. This guidance updates and replaces guidance issued on February 19, 2025, also entitled Implementation of the National Environmental Policy Act, which CEQ published at www.nepa.gov. The updated memorandum includes an overview of NEPA, including a discussion of recent amendments to the statute and recent case law as relevant to agency implementation of NEPA. The memorandum also provides guidance for agencies to use when establishing or revising agency-specific NEPA implementing procedures. As an appendix to the memorandum, CEQ has included a template that agencies are encouraged to use as an initial framework for establishing or revising their NEPA implementing procedures, to the extent consistent with agency authorities and applicable law. CEQ developed this template with the assistance of a Federal agency working group established pursuant to Executive Order 14154, Unleashing American Energy (90 FR 8353, Jan. 20, 2025).

The guidance and the associated template are not mandatory or binding on Federal agencies. Rather, they are intended to expedite and simplify the permitting process and promote consistency as to NEPA's implementation consistent with Section 5 of Executive Order 14154.

The guidance and template are available at www.nepa.gov.

Katherine R. Scarlett,
Chairman.

[FR Doc. 2025-19236 Filed 10-1-25; 8:45 am]

BILLING CODE 3325-FC-P